Title 3—

The President

Proclamation 8068 of October 12, 2006

National Energy Awareness Month, 2006

By the President of the United States of America

A Proclamation

Our Nation is moving toward remarkable technological advances that will make energy cleaner, more abundant, and more affordable for our citizens. During National Energy Awareness Month, we underscore our commitment to a more secure energy future.

My Administration is working to improve energy efficiency and conservation, increase our domestic supply of energy, and diversify our energy supply through advanced technologies. Since 2001, we have invested nearly $10 billion in the development of cleaner, less expensive, and more reliable energy sources. We developed a comprehensive National Energy Policy, and last year I signed into law the Energy Policy Act of 2005 -- the first comprehensive energy bill in more than a decade.

My Administration's Advanced Energy Initiative seeks to diversify energy resources by substantially increasing funding for clean-energy research. To change how we power our homes and offices, we will invest more in zero-emission coal-fired plants, revolutionary solar and wind technologies, and clean, safe nuclear energy. We will focus on improving hybrid and hydrogen technologies for our automobiles and increasing the use of biofuels. By harnessing the power of technology, we can grow our economy, protect our environment, and enhance our energy security.

Technology is also helping develop new energy-saving products that give our consumers better performance at a lower cost. At home, energy-efficient windows reduce the loss of hot and cold air, and high efficiency light-bulbs last longer than traditional bulbs while requiring less electricity. The Federal Government's Energy Savers website, energysavers.gov, offers more information about how to use less energy in homes, offices, and vehicles, and how consumers can save money on energy costs.

Meeting our growing energy needs will require creativity, determination, and discipline. By working together, we can foster economic growth, improve our environment, and leave behind a safer, cleaner, more prosperous world for future generations.

NOW, THEREFORE, I, GEORGE W. BUSH, President of the United States of America, by virtue of the authority vested in me by the Constitution and laws of the United States, do hereby proclaim October 2006 as National Energy Awareness Month. I encourage Americans to take steps to conserve energy and develop responsible habits that will reduce energy consumption in their everyday lives.

IN WITNESS WHEREOF, I have hereunto set my hand this twelfth day of October, in the year of our Lord two thousand six, and of the Independence of the United States of America the two hundred and thirty-first.

[FR Doc. 06-8759

Filed 10-16-06; 8:51 am]

Billing code 3195-01-P